DEPARTMENT OF ENERGY

10 CFR Part 430

[Docket No. EERE-2011-BT-BC-0009]

Building Energy Codes Program: Presenting and Receiving Comments to DOE Proposed Changes to the International Green Construction Code (IgCC)

AGENCY: Office of Energy Efficiency and Renewable Energy, Department of Energy.

ACTION: Notice of public meeting.

SUMMARY: The U. S. Department of Energy's Office of Energy Efficiency and Renewable Energy (EERE) is seeking input on potential proposed changes to the draft International Green Construction Code (IgCC). The first edition of the IgCC is currently being developed by the International Code Council (ICC) for anticipated publication in 2012. EERE will be holding a public meeting to present and solicit public comment on proposed changes.

DATES: DOE will hold a public meeting on 14 April, 2011, from 9 a.m. to 4 p.m., in Washington, DC.

ADDRESSES: The public meeting will be held at the Holiday Inn, 550 C Street, SW., Washington, DC 20585-0121. If a foreign national wishes to participate in the meeting, please inform DOE as soon as possible by contacting Ms. Brenda Edwards at (202) 586-2945 so that the necessary procedures can be completed.

Background Materials and Submitting Comments: For access to the IgCC code change proposals filed by DOE, visit the Web site: http://www.energycodes.gov/development/IgCC/. Written comments may be filed to each DOE IgCC code change proposal by using the “submit input” function on this Web site.

FOR FURTHER INFORMATION CONTACT: Mr. Robert Dewey, U.S. Department of Energy, Energy Efficiency and Renewable Energy, Building Technologies Program, EE-2J, 1000 Independence Avenue, SW., Washington, DC 20585-0121. Tel.: (202) 287-1534. E-mail: Robert.Dewey@ee.doe.gov.

Mr. Chris Calamita, U.S. Department of Energy, Office of the General Counsel, GC-72, 1000 Independence Avenue, SW., Washington, DC 20585-0121. Tel.: (202) 586-1777. E-mail: Christopher.Calamita@hq.doe.gov.

SUPPLEMENTARY INFORMATION: The public meeting announced in today's notice is for DOE to present and receive comments on DOE's proposed changes to the IgCC.

The IgCC is being developed to provide a baseline of codes addressing green construction, and provide a framework linking sustainability with safety and performance.

The IgCC is intended to provide a green model building code provisions for new and existing commercial buildings and would include American Society of Heating, Refrigerating and Air-Conditioning Engineers ASHRAE 189.1-2009 as an alternate compliance option in its current form. It is currently being developed as a voluntary “overlay” code with energy conservation and efficiency provisions intended to exceed those in the 2012 IECC. It also contains provisions for regulating site development and land use, material resource conservation and efficiency, water resource conservation and efficiency, indoor environmental quality and commissioning. The IgCC also currently provides for jurisdictional requirements and is intended to provide compliance flexibility through a variety of optional project electives.

The International Codes Council will conduct hearings on the IgCC from May 16 through May 22, 2011, in Dallas, Texas, for consideration of the proposed changes. The complete set of all 1400 proposed changes to the IgCC will be available from the ICC in mid-March.

It is not the object of this public meeting to obtain any group position or consensus. Rather, the EERE is seeking as many recommendations as possible from all individuals at this meeting. The meeting will be conducted in a conference style.

Written comments to the IgCC code change proposals filed by DOE may be submitted by using the “submit input” function assigned to each DOE proposal on the Web site: http://www.energycodes.gov/development/IgCC/.

Issued in Washington, DC, on March 4, 2011.
Roland J. Risser,
Program Manager, Building Technologies Program, Energy Efficiency and Renewable Energy.

[FR Doc. 2011-5494 Filed 3-9-11; 8:45 am]

BILLING CODE 6450-01-P